DEPARTMENT OF TRANSPORTATION

Maritime Administration

[Docket No. DOT-MARAD 2015 0020]

Request for Comments of a Previously Approved Information Collection

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on November 26, 2014 (Federal Register 70610, Vol. 79, No. 228).

DATES: Comments must be submitted on or before March 20, 2015.

FOR FURTHER INFORMATION CONTACT: Elizabeth Gearhart, 202-366-1867, Office of Shipyards and Marine Engineering, Maritime Administration 1200 New Jersey Avenue SE., Washington, DC 20590.

SUPPLEMENTARY INFORMATION: Title: Shipbuilding Orderbook and Shipyard Employment.

OMB Control Number: 2133-0029.

Type of Request: Renewal of a Previously Approved Information Collection.

Abstract: MARAD collects this information from the shipbuilding and ship repair industry primarily to determine if an adequate mobilization base exists for national defense and for use in a national emergency.

Affected Public: Owners of U.S. shipyards who agree to complete the requested information.

Estimated Number of Respondents: 200.

Estimated Number of Responses: 800.

Annual Estimated Total Annual Burden Hours: 400.

ADDRESSES: Send comments regarding the burden estimate, including suggestions for reducing the burden, to the Office of Management and Budget, Attention: Desk Officer for the Office of the Secretary of Transportation, 725 17th Street NW., Washington, DC 20503. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.93.

Dated: February 10, 2015.
Christine Gurland,
Acting Secretary, Maritime Administration.

[FR Doc. 2015-03372 Filed 2-17-15; 8:45 am]

BILLING CODE 4910-81-P